DEPARTMENT OF TRANSPORTATION

Office of the Secretary

Notice of Applications for Certificates of Public Convenience and Necessity and Foreign Air Carrier Permits Filed Under Subpart B (Formerly Subpart Q) During the Week Ending June 10, 2005

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-21445.

Date Filed: June 6, 2005.

Due Date for Answers, Conforming Applications, or Motion to Modify Scope: June 27, 2005.

Description: Joint Application of Atlas Air Worldwide Holdings, Inc., Atlas Air, Inc. and Polar Air Cargo, Inc., requesting the Department commence registration of “Atlas Air” as an additional trade name of Polar Air Cargo, Inc. and re-issue all certificates and exemptions held by Polar in the form of “Polar Air Cargo, Inc. d/b/a Atlas Air and d/b/a Polar Air Cargo,” effective as of the consummation of the operational merger of Atlas into Polar, expected to occur in January 2006.

Docket Number: OST-2005-21533.

Date Filed: June 10, 2005.

Due Date for Answers, Conforming Applications, or Motion To Modify Scope: July 1, 2005.

Description: Application of Friendship Airways, Inc. d/b/a Yellow Air Taxi, requesting issuance of commuter air carrier authority to enable Yellow Air Taxi to engage in interstate and foreign scheduled air transportation operations utilizing small aircraft.

Renee V. Wright,
Acting Program Manager, Docket Operations, Alternate Federal Register Liaison.

[FR Doc. 05-12429 Filed 6-22-05; 8:45 am]

BILLING CODE 4910-62-P